ENVIRONMENTAL PROTECTION AGENCY

[FRL-6544-3]

Proposed Settlement Agreement, Clean Air Act

AGENCY: Environmental Protection Agency (EPA).

ACTION: Notice of proposed settlement; request for public comment.

SUMMARY: In accordance with section 113(g) of the Clean Air Act, as amended (“Act”), notice is hereby given of a proposed settlement agreement in the following case: Chemical Manufacturers Association v. U.S. Environmental Protection Agency, Civ. No. 94-1778 (consol. with 96-1297) (C.A.D.C.). These actions were filed under section 307(b) of the Act, 42 U.S.C. 7607(b), contesting EPA's final regulations for Deposit Control Gasoline Additives, issued under sections 211 (l) and (c) of the Act. The final rules were published at 59 FR 54678 (November 1, 1994) and 61 FR 35310 (July 5, 1996). The Settlement Agreement concerns EPA undertaking a rulemaking to make certain amendments to portions of the Deposit Control Gasoline Additives Rules.

For a period of thirty (30) days following the date of publication of this notice, the Agency will receive written comments relating to the proposed settlement agreement from persons who were not named as parties or intervenors to the litigation in question. EPA or the Department of Justice may withhold or withdraw consent to the proposed agreement if the comments disclose facts or circumstances that indicate that such agreement is inappropriate, improper, inadequate, or inconsistent with the requirements of the Act.

A copy of the proposed settlement agreement is available from Phyllis J. Cochran, Air and Radiation Law Office (2344AR), Office of General Counsel, U.S. Environmental Protection Agency, 1200 Pennsylvania Ave., NW, Washington, DC 20460, (202) 564-5566. Written comments should be sent to Andrea Medici, Esq. at the above address and must be submitted on or before March 30, 2000.

Dated: February 18, 2000.
Gary S. Guzy,
General Counsel.

[FR Doc. 00-4782 Filed 2-28-00; 8:45 am]

BILLING CODE 6560-50-M